DEPARTMENT OF TRANSPORTATION

National Highway Traffic Safety Administration

[Docket No. NHTSA-2016-0004; Notice 2]

Aston Martin Lagonda Limited; Denial of Petition for Decision of Inconsequential Noncompliance

AGENCY: National Highway Traffic Safety Administration (NHTSA), Department of Transportation (DOT).

ACTION: Denial of petition.

SUMMARY: Aston Martin Lagonda Limited (AML), has determined that certain model year (MY) 2009-2015 Aston Martin DB9 two-door and four-door passenger cars do not fully comply with paragraph S4.3 of Federal Motor Vehicle Safety Standard (FMVSS) No. 206, Door locks and door retention components. Aston Martin Lagonda of North America, Inc., filed a report dated December 16, 2015, pursuant to 49 CFR part 573, Defect and Noncompliance Responsibility and Reports for AML. AML then petitioned NHTSA under 49 CFR part 556 requesting a decision that the subject noncompliance is inconsequential to motor vehicle safety.

ADDRESSES: For further information on this decision contact Luis Figueroa, Office of Vehicle Safety Compliance, the National Highway Traffic Safety Administration (NHTSA), telephone (202) 366-5298, facsimile (202) 366-5930.

SUPPLEMENTARY INFORMATION:

I. Overview: Pursuant to 49 U.S.C. 30118(d) and 30120(h) (see implementing rule at 49 CFR part 556), AML submitted a petition for an exemption from the notification and remedy requirements of 49 U.S.C. Chapter 301 on the basis that this noncompliance is inconsequential to motor vehicle safety.

Notice of receipt of the petition was published, with a 30-day public comment period, on February 17, 2016, in the Federal Register (81 FR 8125). No comments were received. To view the petition and all supporting documents log onto the Federal Docket Management System (FDMS) Web site at: http://www.regulations.gov/. Then follow the online search instructions to locate docket number “NHTSA-2016-0004.”

II. Vehicles Involved: Affected are approximately 5,516 MY 2009-2015 Aston Martin DB9 two-door and four-door passenger cars that were manufactured between September 1, 2009 and December 9, 2015.

III. Noncompliance: AML explains that the noncompliance occurs when the door locking system in the subject vehicles is double-locked causing the interior operating means for unlocking the door locking mechanism to become disengaged and therefore does not meet the requirements as specified in paragraph S4.3 of FMVSS No. 206.

IV. Rule Text: Paragraph S4.3 of FMVSS No. 206 requires:

S4.3 Door Locks. Each door shall be equipped with at least one locking device which, when engaged, shall prevent operation of the exterior door handle or other exterior latch release control and which has an operating means and a lock release/engagement device located within the interior of the vehicle.

S4.3.1 Rear side doors. Each rear side door shall be equipped with at least one locking device which has a lock release/engagement mechanism located within the interior of the vehicle and readily accessible to the driver of the vehicle or an occupant seated adjacent to the door, and which, when engaged, prevents operation of the interior door handle or other interior latch release control and requires separate actions to unlock the door and operate the interior door handle or other interior latch release control.

S4.3.2 Back doors. Each back door equipped with an interior door handle or other interior latch release control, shall be equipped with at least one locking device that meets the requirements of S4.3.1. . . .

V. Summary of AML's Petition: AML described the subject noncompliance and stated its belief that the noncompliance is inconsequential to motor vehicle safety for the following reasons:

(a) AML stated that the subject vehicles can only be double-locked by using the key fob (which also serves as the ignition key) and that if the vehicle is double-locked from the inside, the driver and or passenger will be able to disengage the double-lock by using the key fob. AML believes that as a result, the double-locking mechanism could not cause a situation in which a vehicle is double-locked from the inside by the driver and a crash disables the driver, leaving the passenger(s) locked inside.

(b) AML stated that the risks of children being locked in the vehicle by means of the double-locking mechanism, does not pose an unacceptable risk to motor vehicle safety. AML believes that compared to other motor vehicles, AML's vehicles are rarely used to transport children. With the exception of the Rapide and Rapide S models, all Aston Martin vehicles are two-door sports cars.

Moreover, AML states that the double-locking mechanism in the subject vehicles poses no greater risk to children than the child safety locks expressly found to be permitted by FMVSS No. 206.

(c) AML stated its belief that there is little risk that any adults will be locked in its vehicles.

(d) AML stated that in the event a driver were to inadvertently lock a passenger in one of the subject vehicles, the passenger would be able to sound the horn, which would remain functional, allowing the passenger to alert the driver and passers-by.

(e) AML also stated that many of the subject vehicles have motion sensors that would detect the presence of someone in the vehicle as soon as that person moved, and an alarm would sound, which is audible outside the vehicle. Thus, deterring inadvertent lock-ins of both adults and children and would alert passers-by of any passengers locked in the subject vehicles.

(f) AML stated its belief that if an adult were locked in a vehicle, he or she could alert passers-by and would probably be able to contact the driver via mobile communication devices that, in fact, are ubiquitous today and certainly are very likely to be in the possession of the average AML vehicle passenger.

AML also stated that they have not received any complaints regarding the subject noncompliance.

AML additionally informed NHTSA that they have corrected the noncompliance in vehicles manufactured from production date December 9, 2015 and will correct the noncompliance in any unsold noncompliant vehicles prior to sale.

In summation, AML believes that the described noncompliances are inconsequential to motor vehicle safety, and that its petition, to exempt AML from providing notification of the noncompliances as required by 49 U.S.C. 30118 and remedying the noncompliance as required by 49 U.S.C. 30120 should be granted.

NHTSA'S Decision

NHTSA's Analysis: NHTSA does not find AML's rationale that the subject noncompliance is inconsequential to motor vehicle safety persuasive. AML made several assumptions regarding the actions that passengers could take in the event of being double-locked in the subject vehicles (e.g., a passenger will be able to disengage the double-lock by using the key fob; AML's vehicles are rarely used to transport children; in the event a driver were to inadvertently lock a passenger in one of the subject vehicles, the passenger would be able to sound the horn to alert the driver and passers-by; many of the subject vehicles have motion sensors that would detect the presence of someone in the vehicle, if that person moved, and sound an alarm alerting the driver or passers-by; someone trapped in the vehicle would probably be able to contact the driver via mobile communication devices, etc.), but offered no specific solution to lower the risk of being trapped in a car, save complying with the rule, as AML has been doing since December 2015.

In February 2007, NHTSA provided a specific solution towards lowering the risk of a passenger being trapped in a motor vehicle when it published a final rule ¹ to amend FMVSS No. 206. Among the final rule updates, Paragraphs S4.3 and S4.3.1, required a lock release/engagement device located inside the vehicle.

¹ 72 FR 5385, February 6, 2007.

NHTSA also reaffirmed that new requirement for a lock release/engagement device inside the vehicle in an interpretation letter to Mr. Thomas Betzer from Keykert, USA. In that interpretation, NHTSA addressed whether double-locked doors (doors that can only be unlocked using a key) would be allowed under the rule as amended in February 2007 (the current rule) in a system similar to AML's in that once the driver would activate the anti-theft alarm with a key, the doors would be double-locked. Specifically, NHTSA interpreted that double-lock systems are no longer allowed because they interfere with the interior door lock release device. The interpretation also makes it clear that in the December 15, 2004, Notice of Proposed Rulemaking and the February 6, 2007, final rule, that NHTSA sought to require interior door locks to “be capable of being unlocked from the interior of the vehicle by means of a lock release device that has an operating means and a lock release/engagement device located within the interior of the vehicle.”

NHTSA has examined certain real world situations involving individuals trapped in motor vehicles, while infrequent, are consequential to motor vehicle safety. Such scenarios include vehicle fires, vehicles entering bodies of water, and individuals trapped in hot vehicles. Vehicles with double locked doors in emergency situations such as those examined, would have consequential effects on motor vehicle safety.

Based on its analysis of AML's petition, NHTSA has determined that AML has failed to make a case that having double locked doors in a vehicle that is involved in an emergency scenario in which the occupants of the subject vehicles are unable to access the key fob to open the doors and are unable to be seen or heard is inconsequential to safety.

NHTSA's Decision: In consideration of the foregoing, NHTSA finds that AML has not met its burden of persuasion that the FMVSS No. 206 noncompliance is inconsequential to motor vehicle safety. Accordingly, AML's petition is hereby denied and AML is obligated to provide notification of, and a free remedy for, that noncompliance under 49 U.S.C. 30118 and 30120.

Authority: 49 U.S.C. 30118, 30120: Delegations of authority at 49 CFR 1.95 and 501.8.

Gregory K. Rea,
Associate Administrator for Enforcement.

[FR Doc. 2016-14964 Filed 6-23-16; 8:45 am]

BILLING CODE 4910-59-P